ENVIRONMENTAL PROTECTION AGENCY

[ER-FRL-9046-7]

Environmental Impact Statements; Notice of Availability

Responsible Agency: Office of Federal Activities, General Information 202-564-5632 or https://www.epa.gov/nepa/.

Weekly receipt of Environmental Impact Statements

Filed 09/02/2019 10 a.m. ET Through 09/09/2019 10 a.m. ET

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20190219, Draft Supplement, FHWA, MI,I-94 Modernization Project in Detroit from I-96 to Conner Avenue DSEIS and Section 4(f) Evaluation, Comment Period Ends: 10/28/2019, Contact: Ruth Hepfer 517-702-1847

EIS No. 20190220, Draft Supplement, CHSRA, CA,Merced to Fresno Section: Central Valley Wye Draft Supplemental Environmental Impact Report/Environmental Impact Statement, Comment Period Ends: 10/28/2019, Contact: Dan McKell 916-330-5668

EIS No. 20190221, Draft, FRA, DC,Long Bridge Project, Comment Period Ends: 10/28/2019, Contact: David Valenstein 202-493-6368

EIS No. 20190222, Final, BLM, NV,Mackay Optimization Project, Review Period Ends: 10/15/2019, Contact: Jeanette Black 775-623-1500

EIS No. 20190223, Final, BLM, AZ,Final Environmental Impact Statement and Proposed Resource Management Plan Amendments for the Ten West Link Transmission Line Project, Review Period Ends: 10/15/2019, Contact: Lane Cowger 602-417-9612

EIS No. 20190224, Final, NYCOMB, NY,East Side Coastal Resiliency (ESCR), Review Period Ends: 10/15/2019, Contact: Eram Qadri 212-788-6282

Dated: September 9, 2019.
Robert Tomiak,
Director, Office of Federal Activities.

[FR Doc. 2019-19813 Filed 9-12-19; 8:45 am]

BILLING CODE 6560-50-P